ENVIRONMENTAL PROTECTION AGENCY

[FRL-8510-1]

National Advisory Council for Environmental Policy and Technology

AGENCY: Environmental Protection Agency (EPA).

ACTION: Notice of meeting.

SUMMARY: Under the Federal Advisory Committee Act, Public Law 92463, EPA gives notice of a public teleconference of the National Advisory Council for Environmental Policy and Technology (NACEPT). NACEPT provides advice to the EPA Administrator on a broad range of environmental policy, technology, and management issues. The Council is a panel of individuals who represent diverse interests from academia, industry, non-governmental organizations, and local, State, and tribal governments. The purpose of this teleconference is to discuss and approve the Draft NACEPT Comments on the EPA 2007 Report on the Environment: Highlights of National Trends (ROE HD). The objective of the Highlights Document is to present national status and trends in the environment and human health in a clear, engaging manner to a public audience of “civic-minded individuals.” EPA's Report on the Environment 2007 consists of three products: A Science Report containing detailed scientific and technical information, a Highlights Document written for concerned citizens, and an electronic document facilitating access to material in the reports. A copy of the agenda for the meeting will be posted at http://www.epa.gov/ocem/nacept/cal-nacept.htm.

DATES: NACEPT will hold a public teleconference on Wednesday, January 9, 2008 at 2 p.m.-3:30 p.m. Eastern Standard Time.

ADDRESSES: The meeting will be held in the U.S. EPA Office of Cooperative Environmental Management at 1201 Constitution Ave., NW., EPA East Building, Room 1102, Washington, DC 20004.

FOR FURTHER INFORMATION CONTACT: Sonia Altieri, Designated Federal Officer, altieri.sonia@epa.gov, (202) 233-0061, U.S. EPA, Office of Cooperative Environmental Management (1601M), 1200 Pennsylvania Avenue NW., Washington, DC 20460.

SUPPLEMENTARY INFORMATION: Requests to make oral comments or to provide written comments to the Council should be sent to Sonia Altieri, Designated Federal Officer, at the contact information above by Friday, January 4, 2008. The public is welcome to attend all portions of the meeting, but seating is limited and is allocated on a first-come, first-serve basis. Members of the public wishing to gain access to the conference room on the day of the meeting must contact Sonia Altieri at (202) 564-0243 or altieri.sonia@epa.gov by January 4, 2008.

Meeting Access: For information on access or services for individuals with disabilities, please contact Sonia Altieri at 202-564-0243 or altieri.sonia@epa.gov. To request accommodation of a disability, please contact Sonia Altieri, preferably at least 10 days prior to the meeting, to give EPA as much time as possible to process your request.

Dated: December 12, 2007.
Sonia Altieri,
Designated Federal Officer.

[FR Doc. E7-24857 Filed 12-20-07; 8:45 am]

BILLING CODE 6560-50-P